COMMISSION ON CIVIL RIGHTS

Notice of Public Meeting of the Nevada State Advisory Committee

AGENCY: U.S. Commission on Civil Rights.

ACTION: Announcement of meeting.

SUMMARY: Notice is hereby given, pursuant to the provisions of the rules and regulations of the U.S. Commission on Civil Rights (Commission) and the Federal Advisory Committee Act (FACA) that a meeting of the Nevada Advisory Committee (Committee) to the Commission will be held at 9:00 a.m. (Pacific Time) Friday, May 3, 2019.

The Nevada Advisory Committee to the U.S. Commission on Civil Rights will hold a community forum to hear from stakeholders and members of the public concerning policing practices and implications for the administration of justice on individuals on the basis of disability (individuals with mental health concerns), veteran status, and race. The Committee intends to view this topic through the lens of Pillar 4 (Community Policing & Crime Reduction) of the Report of the President's Task Force on 21st Century Policing. The Committee welcomes the public to share their comments and opinions during open comment period.

DATES: Friday, May 3, 2019 from 9:00 a.m.-2:00 p.m.

Location: Carson City Community Center, Sierra Room, 851 E. William Street, Carson City, NV 89701.

Public Call Information: Dial: 877-260-1479. Conference ID: 2224726.

FOR FURTHER INFORMATION CONTACT: Ana Victoria Fortes (DFO) at afortes@usccr.gov or (213) 894-3437.

SUPPLEMENTARY INFORMATION: This meeting is available to the public through the following toll-free call-in number: 877-260-1479, conference ID number: 2224726. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-877-8339 and providing the Service with the conference call number and conference ID number.

Members of the public are entitled to make comments during the open period at the end of the meeting. Members of the public may also submit written comments; the comments must be received in the Regional Programs Unit within 30 days following the meeting. Written comments may be mailed to the Western Regional Office, U.S. Commission on Civil Rights, 300 North Los Angeles Street, Suite 2010, Los Angeles, CA 90012. They may be faxed to the Commission at (213) 894-0508, or emailed Ana Victoria Fortes at afortes@usccr.gov. Persons who desire additional information may contact the Regional Programs Unit at (213) 894-3437.

Records and documents discussed during the meeting will be available for public viewing prior to and after the meeting at https://www.facadatabase.gov/FACA/FACAPublicViewCommitteeDetails?id=a10t0000001gzlJAAQ. Records generated from this meeting may also be inspected and reproduced at the Regional Programs Unit, as they become available, both before and after the meeting. Persons interested in the work of this Committee are directed to the Commission's website, http://www.usccr.gov, or may contact the Regional Programs Unit at the above email or street address.

Agenda

Opening Remarks and Introductions (9:00-9:10 a.m.)

Panel 1 (9:10-10:00 a.m.)

AM Open Comment (10:10 a.m.-11:00 p.m.)

Panel 2 (11:10 a.m.-12:00 p.m.)

Break (12:00-1:00 p.m.)

PM Open Comment (1:00-1:50 p.m.)

Closing Remarks (1:50-2:00 p.m.)

Dated: March 25, 2019.
David Mussatt,
Supervisory Chief, Regional Programs Unit.

[FR Doc. 2019-06007 Filed 3-28-19; 8:45 am]

BILLING CODE P